DEPARTMENT OF HOMELAND SECURITY

U.S. Customs and Border Protection

Accreditation of Markan Laboratories (New York, NY) as a Commercial Laboratory

AGENCY: U.S. Customs and Border Protection, Department of Homeland Security.

ACTION: Notice of accreditation of Markan Laboratories (New York, NY), as a commercial laboratory.

SUMMARY: Notice is hereby given, pursuant to CBP regulations, that Markan Laboratories (New York, NY), has been accredited to test certain sugar products for customs purposes for the next three years as of March 1, 2024.

DATES: Markan Laboratories (New York, NY) was accredited as a commercial laboratory as of March 1, 2024. The next triennial inspection date will be scheduled for March 2027.

FOR FURTHER INFORMATION CONTACT: Dr. Justin Shey, Laboratories and Scientific Services, U.S. Customs and Border Protection, 1331 Pennsylvania Avenue NW, Suite 1501A North, Washington, DC 20004, tel. 202-344-1060.

SUPPLEMENTARY INFORMATION: Notice is hereby given pursuant to 19 CFR 151.12, that Markan Laboratories, 5 Hanover Square, 23rd Floor, New York, NY 10004, has been accredited to test certain sugar products for customs purposes, in accordance with the provisions of 19 CFR 151.12.

Markan Laboratories (New York, NY) is accredited for the following laboratory analysis procedures and methods for sugar products set forth by the U.S. Customs and Border Protection Laboratory Methods (CBPL) and International Commission for Uniform Methods of Sugar Analysis (ICUMSA):

CBPL No. | ICUMSA: New method No. | ICUMSA: Old method No. | Title
17-01 | GS1-1 (2022) | GS1/2/3/9-1 | Polarimetric Sucrose Content of Raw Sugar by VIS-Polarimetry.
17-02 | GS2-1 (2022) | GS2/3-1 | Polarimetric Sucrose Content of White Sugar by VIS-Polarimetry.
17-07 | GS2-15 (2007) | GS2/1/3/9-15 | The Determination of Sugar Moisture by Loss on Drying.
17-20 | GS1-2 (2022) | GS1/2/3-2 | Polarimetric Sucrose Content of Raw Sugar by NIR-Polarimetry.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Patricia A. Coleman,
Deputy Assistant Commissioner, Laboratories and Scientific Services.

[FR Doc. 2025-22273 Filed 12-8-25; 8:45 am]

BILLING CODE 9111-14-P